DEPARTMENT OF TRANSPORTATION

Pipeline and Hazardous Materials Safety Administration

[Docket: RSPA-00-7666]

Request for Public Comments and Office of Management and Budget (OMB) Approval of an Existing Information Collection (2137-0610)

AGENCY: Pipeline and Hazardous Materials Safety Administration (PHMSA), DOT.

SUMMARY: This notice requests public participation in the Office of Management and Budget (OMB) approval process for the renewal of an existing PHMSA information collection. In compliance with the Paperwork Reduction Act of 1995, this notice announces that the Information Collection Request (ICR) described below has been forwarded to OMB for extension of the currently approved collection. The ICR describes the nature of the information collection and the expected burden. PHMSA published a Federal Register Notice soliciting comments on the following information collection and received none. The purpose of this notice is to allow the public an additional 30 days from the date of this notice to submit comments.

DATES: Comments must be submitted on or before April 13, 2006.

ADDRESSES: Send comments to the Office of Information and Regulatory Affairs, Office of Management and Budget, 725—17th Street, NW., Washington, DC 20503, Attention DOT Desk Officer.

FOR FURTHER INFORMATION CONTACT: William Fuentevilla at (202) 366-6199, or by e-mail at William.Fuentevilla@dot.gov.

SUPPLEMENTARY INFORMATION: Comments are invited on whether the collection of information described below is necessary for the proper performance of the functions of the Department, including whether the information will have practical utility; the accuracy of the Department's estimate of the burden of the information collection; ways to enhance the quality, utility, and clarity of the information to be collected; and ways to minimize the burden of the collection of information on respondents, including the use of automated collection techniques or other forms of information technology. PHMSA published a Federal Register Notice with a 60-day comment period for this ICR on December 29, 2005 (70 FR 77247), and received no comments.

This ICR relates to the rule at 49 CFR part 192, subpart O, which covers pipeline integrity management in high consequence areas for natural gas transmission pipeline operators. The Gas Transmission Integrity Management rule became effective February 14, 2004. The regulation improves pipeline safety through (1) accelerating the integrity assessment of pipelines in high consequence areas, (2) improving integrity management systems within companies, (3) improving the government's role in reviewing the adequacy of integrity programs and plans, and (4) providing increased public assurance in pipeline safety.

This information collection requires operators of gas transmission pipelines located in or near high consequence areas to submit to PHMSA a written integrity management program and records showing compliance with 49 CFR part 192, subpart O. Operators must maintain these records for the life of the pipeline and PHMSA or State regulators may review the records during inspections. The regulation also requires each operator to submit four overall performance measures to PHMSA semi-annually. This information collection supports DOT's strategic goal of safety by reducing the number of incidents in natural gas transmission pipelines.

As used in this notice, “information collection” includes all work related to preparing and disseminating information related to this recordkeeping requirement including completing paperwork, gathering information and conducting telephone calls.

Type of Information Collection Request: Renewal of Existing Collection.

Title of Information Collection: Pipeline Integrity Management in High Consequence Areas (Gas Transmission Pipeline Operators).

Respondents: 721.

Estimated Total Annual Burden on Respondents: 1,030,309 hours.

Issued in Washington, DC on March 9, 2006.
Florence L. Hamn,
Director of Regulations, Office of Pipeline Safety.

[FR Doc. 06-2447 Filed 3-9-06; 3:26 pm]

BILLING CODE 4910-60-P